DEPARTMENT OF ENERGY

Federal Energy Regulatory Commission

Docket No. RP01-335-001

TransColorado Gas Transmission Company; Notice of Compliance Filing

May 10, 2001.

Take notice that on May 4, 2001, TransColorado Gas Transmission Company (TransColorado) tendered for filing, of its FERC Gas Tariff Original Volume No. 1, the following tariff sheets, to be effective May 1, 2001:

Substitute Eight Revised Sheet No. 203

Substitute Fifth Revised Sheet No. 203.01

TransColorado states that this filing was tendered in compliance with the Commission's Order issued April 26, 2001, in Docket No. RP01-335-000, which directed TransColorado to make two corrections to its Order No. 587-M compliance filing in Docket No. RM96-1-015 filed March 30, 2001.

TransColorado states that a copy of this filing has been served upon TransColorado's customers, the Colorado Public Utilities Commission and the New Mexico Public Utilities Commission.

Any person desiring to protest said filing should file a protest with the Federal Energy Regulatory Commission, 888 First Street, NE., Washington, DC 10426, in accordance with section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

David P. Boergers,
Secretary.

[FR Doc. 01-12291 Filed 5-15-01; 8:45 am]

BILLING CODE 6717-01-M